OFFICE OF PERSONNEL MANAGEMENT

Submission for Review: Performance Measurement Surveys, OMB Control No. 3206-NEW

AGENCY: U.S. Office of Personnel Management.

ACTION: 60-Day notice and request for comments.

SUMMARY: The Office of Personnel Management (OPM) offers the general public and other federal agencies the opportunity to comment on a new information collection request (ICR) 3206-NEW, Performance Measurement Surveys. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 20, 2010. This process is conducted in accordance with 5 CFR part 1320.

ADDRESSES: Interested persons are invited to submit written comments on the proposed information collection to the Office of Personnel Management, Office of the Chief Information Officer, 1900 E Street, NW., Washington, DC 20415, Attention: PRA Officer or sent via electronic mail to pra@opm.gov.

FOR FURTHER INFORMATION CONTACT: A copy of this ICR, with applicable supporting documentation, may be obtained by contacting the Office of Personnel Management, Office of the Chief Information Officer, 1900 E Street, NW., Washington, DC 20415, Attention: PRA Officer or sent via electronic mail to pra@opm.gov

SUPPLEMENTARY INFORMATION: The Office of Personnel Management (OPM) leads Federal agencies in shaping human resources management systems to effectively recruit, develop, manage and retain a high quality and diverse workforce. Performance measurement surveys are valuable tools to gather information from our customers so we can design and implement new ways to improve our performance to meet their needs. This collection request includes surveys that we currently use or plan to use during the next three years to measure our performance in providing services to meet our customer needs. The survey instruments include direct mail, telephone contact, focus groups and web exit surveys. Our customers include the general public, Federal benefit recipients, Federal agencies and Federal employees. We estimate 210,900 performance measurement surveys will be completed in the next 3 years. The time estimate varies from 15 minutes to 20 minutes to complete. The estimated burden is 70,275 hours.

U.S. Office of Personnel Management.
John Berry,
Director.

[FR Doc. 2010-14834 Filed 6-18-10; 8:45 am]

BILLING CODE 6325-47-P